DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 51071-51075, dated August 29, 2005) is amended to reflect the establishment of the Management Information Systems Office, within the Office of the Chief Operating Officer, Centers for Disease Control and Prevention.

Section C-B, Organization and Functions, is hereby amended as follows:

After the mission statement for the Office of Security and Emergency Preparedness (CAJJ), Office of the Chief Operating Officer (CAJ), insert the following:

Management Information Systems Office (CAJN). The mission of the Management Information Systems Office (MISO) is to support the Centers for Disease Control and Prevention's (CDC) public health impact through enterprise business systems solutions. In carrying out its mission, MISO: (1) Designs, develops, implements, supports, and evaluates enterprise business information systems for CDC's administrative lines of business; (2) provides data management and integration to support CDC's administrative lines of business and integration with programmatic functions; (3) collaborates with the Department of Health and Human Services (DHHS), other federal agencies, and CDC organizations in the delivery of enterprise business information systems for CDC's major administrative lines of business; (4) integrates emerging and legacy technologies, where appropriate, in order to leverage information assets, using common data structures and business rules to transition toward more robust information solutions; (5) manages the CDC workforce data repository, which is the centralized source of person information and integration point for all systems within CDC to access individual profile data; (6) partners with lines of business stakeholders to provide business management services, including technical project management, technical stewardship, change management, requirements management, quality management, and investment management activities for capital planning and certification and accreditation for CDC's enterprise business information systems; (7) provides knowledge management services including information retrieval, information mapping, information sharing, data categorization, and knowledge capture in support of CDC's lines of business services and programmatic operations; (8) ensures enterprise business information systems meet all federal/DHHS/CDC information technology (IT) security policy and regulatory requirements while implementing appropriate risk mitigation procedures, countermeasures, and safeguards in accordance with the sensitivity and criticality levels of the data or system; (9) provides customer services to end users of enterprise business information systems including call center support, customer analytics, online help, documentation, and training; (10) researches and implements new technologies, methodologies, and architecture for business information system development, data management, project management, performance management, knowledge management, and business intelligence; (11) serves as enterprise IT partner in support of CDC's strategic business intelligence initiatives by providing the business process, data, and technology framework to align goals, performance and knowledge management; and (12) provides the CDC Office of the Director and CDC staff offices with information systems, data, and Web site development, management, and support.

Dated: August 24, 2005.
William H. Gimson,
Chief Operating Officer, Centers for Disease Control and Prevention (CDC).

[FR Doc. 05-18974 Filed 9-22-05; 8:45am]

BILLING CODE 4160-18-M